POSTAL REGULATORY COMMISSION

Sunshine Act Meetings

Name of Agency: Postal Regulatory Commission.

Time and Date: Thursday, September 10, 2009, at 10:30 a.m.

Place: Commission conference room, 901 New York Avenue, NW., Suite 200, Washington, DC 20268-0001.

Status: Closed.

Matters To Be Considered: Personnel matters—selection of the secretary and deputy secretary.

Contact Person for More Information: Stephen L. Sharfman, General Counsel, Postal Regulatory Commission, 901 New York Avenue, NW., Suite 200, Washington, DC 20268-0001, 202-789-6820 and stephen.sharfman@prc.gov.

Dated: August 31, 2009.
Judith M. Grady,
Acting Secretary.

[FR Doc. E9-21303 Filed 8-31-09; 4:15 pm]

BILLING CODE 7710-FW-P